DEPARTMENT OF ENERGY

Federal Energy Regulatory Commission

[Project No. 15012-000]

FreedomWorks, LLC; Notice of Preliminary Permit Application Accepted for Filing and Soliciting Comments, Motions To Intervene, and Competing Applications

On October 16, 2019,¹ FreedomWorks, LLC, filed an application for a preliminary permit, pursuant to section 4(f) of the Federal Power Act (FPA), proposing to study the feasibility of the Ulysses Pumped Storage Hydropower Project to be located in Grant County, West Virginia. The sole purpose of a preliminary permit, if issued, is to grant the permit holder priority to file a license application during the permit term. A preliminary permit does not authorize the permit holder to perform any land-disturbing activities or otherwise enter upon lands or waters owned by others without the owners' express permission.

¹ FreedomWorks, LLC, revised its application on October 17, 2019.

The proposed project would consist of the following: (1) A new upper reservoir with a surface area of 1,042 acres and a storage capacity of 141,000 acre-feet at a surface elevation of approximately 2,960 feet above mean sea level (msl) created by constructing new dams with roller compacted concrete or earth and rock excavated from nearby mine site reclamation; (2) a new lower reservoir with a surface area of 1,139 acres and a storage capacity of 141,000 acre-feet at a surface elevation of 1,280 feet msl created by constructing new dams with roller compacted concrete or earth and rock excavated from nearby mine site reclamation; (3) three new 36,960-foot-long, 24-foot-diameter penstocks connecting the upper reservoir and lower reservoir; (4) a new 800-foot-long, 50-foot-wide, 25-foot-high powerhouse containing eight turbine-generator units with a total rated capacity of 4,000 megawatts; (5) a new transmission line connecting the powerhouse to a nearby electric grid interconnection point with options to evaluate multiple grid interconnection locations; and (6) appurtenant facilities. Initial fill and make-up water for the upper reservoir would come from groundwater inputs and the Stoney River, and the water for the lower reservoir would come from groundwater inputs and North Fork Patterson Creek. The proposed project would have an annual generation of approximately 17,520,000 megawatt-hours.

Applicant Contact: Tim Williamson, FreedomWorks, LLC, 525 Wren Lane, Harpers Ferry, WV 25425; phone: 202-369-6324.

FERC Contact: Monir Chowdhury; phone: (202) 502-6736.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-15012-000.

More information about this project, including a copy of the application, can be viewed or printed on the “eLibrary” link of the Commission's website at http://www.ferc.gov/docs-filing/elibrary.asp. Enter the docket number (P-15012) in the docket number field to access the document. For assistance, contact FERC Online Support.

Dated: November 14, 2019.
Kimberly D. Bose,
Secretary.

[FR Doc. 2019-25126 Filed 11-19-19; 8:45 am]

BILLING CODE 6717-01-P